DEPARTMENT OF ENERGY

Federal Energy Regulatory Commission

Combined Notice of Filings # 1

May 7, 2007.

Take notice that the Commission received the following electric corporate filings:

Docket Numbers: EC07-83-000.

Applicants: Old Lane Commodities, LP.

Description: Old Lane Commodities LP submits application for authorization under section 203 of the FPA for disposition of jurisdictional facilities.

Filed Date: 4/27/2007.

Accession Number: 20070501-0276.

Comment Date: 5 p.m. Eastern Time on Friday, May 18, 2007.

Docket Numbers: EC07-84-000.

Applicants: ESI Altamont Acquisitions, Inc.; ESI Bay Area, Inc.; U.S. Bank National Association.

Description: ESI Altamont Acquisitions, Inc et al submit a joint application for authorization to acquire interests in Electric Utility Companies and Request for Expedited Action.

Filed Date: 4/27/2007.

Accession Number: 20070501-0278.

Comment Date: 5 p.m. Eastern Time on Friday, May 18, 2007.

Docket Numbers: EC07-85-000.

Applicants: Montana Acquisition Company LLC; Centennial Energy Resources LLC; Centennial Power, Inc.; San Joaquin Cogen, L.L.C.; Mountain View Power Partners, LLC; Rocky Mountain Power, Inc.; Colorado Power Partners; BIV Generation Company, L.L.C.; Hartwell Energy Limited Partnership.

Description: Montana Acquisition Company LLC, et al submit a joint application under section 203 of the FPA and Request for Expedited Action.

Filed Date: 5/4/2007.

Accession Number: 20070504-5080.

Comment Date: 5 p.m. Eastern Time on Friday, May 25, 2007.

Take notice that the Commission received the following exempt wholesale generator filings:

Docket Numbers: EG07-48-000.

Applicants: Lock 7 Hydro Partners, LLC.

Description: Lock 7 Hydro Partners, LLC submits a self-certification notice of exempt wholesale generator status.

Filed Date: 4/27/2007.

Accession Number: 20070427-5033.

Comment Date: 5 p.m. Eastern Time on Friday, May 18, 2007.

Take notice that the Commission received the following electric rate filings:

Docket Numbers: ER95-1787-019.

Applicants: Texaco Natural Gas Inc.

Description: Texaco Natural Gas Inc. submits a notice of Non-Material Change in the Status of Facilities Relied Upon In Triennial Market-Power Review.

Filed Date: 5/1/2007.

Accession Number: 20070501-5047.

Comment Date: 5 p.m. Eastern Time on Tuesday, May 22, 2007.

Docket Numbers: ER98-2640-018; ER01-205-020; ER98-4590-016; ER99-1610-024.

Applicants: Northern States Power Company and Northern States Power Company (Wisconsin); Xcel Energy Services Inc.; Public Service Company of Colorado; Southwestern Public Service Company.

Description: Northern States Power Co., et al submit a change in Status Report in Compliance Filing with Order 652.

Filed Date: 5/4/2007.

Accession Number: 20070503-5092.

Comment Date: 5 p.m. Eastern Time on Friday, May 25, 2007.

Docket Numbers: ER02-2536-004.

Applicants: Bank of America, N.A.

Description: Bank of America, N.A. submits a notice of Non-Material Change in Status.

Filed Date: 5/2/2007.

Accession Number: 20070502-5010.

Comment Date: 5 p.m. Eastern Time on Wednesday, May 23, 2007.

Docket Numbers: ER07-272-001; ER07-283-001.

Applicants: Southwest Power Pool, Inc.

Description: Southwest Power Pool Inc submits a supplemental filing, to their 12/1/06 filing of two executed service agreements for Network Integration Transmission Service with Kansas Power Pool.

Filed Date: 5/1/2007.

Accession Number: 20070503-0161.

Comment Date: 5 p.m. Eastern Time on Tuesday, May 22, 2007.

Docket Numbers: ER07-304-001.

Applicants: Southwest Power Pool, Inc.

Description: Southwest Power Pool Inc submits a supplemental filing to its 12/7/06 filing of an executed service agreement for Network Integration Transmission Service with Oklahoma Gas & Electric Company.

Filed Date: 5/1/2007.

Accession Number: 20070503-0160.

Comment Date: 5 p.m. Eastern Time on Tuesday, May 22, 2007.

Docket Numbers: ER07-419-002.

Applicants: PPL Electric Utilities Corporation.

Description: PPL Electric Utilities Corporation submits a supplement to its 3/26/07 response to FERC's 2/22/07 letter order.

Filed Date: 5/1/2007.

Accession Number: 20070503-0185.

Comment Date: 5 p.m. Eastern Time on Tuesday, May 22, 2007.

Docket Numbers: ER07-676-001.

Applicants: Tampa Electric Company.

Description: Tampa Electric Company submits an amendment to its 3/29/07 filing.

Filed Date: 4/30/2007.

Accession Number: 20070503-0159.

Comment Date: 5 p.m. Eastern Time on Monday, May 21, 2007.

Docket Numbers: ER07-713-001.

Applicants: Florida Power & Light Company.

Description: Florida Power & Light Co submits revised Original Sheets 506 and 507 to its 4/5/07 filing and submits a correction to its 5/2/07 filing on 5/3/07.

Filed Date: 5/2/2007; 5/3/07.

Accession Number: 20070504-0226.

Comment Date: 5 p.m. Eastern Time on Wednesday, May 23, 2007.

Docket Numbers: ER07-719-001.

Applicants: Xcel Energy Operating Companies.

Description: Xcel Energy Operating Companies submits a correction to its 4/5/07 filing.

Filed Date: 4/30/2007.

Accession Number: 20070503-0158.

Comment Date: 5 p.m. Eastern Time on Monday, May 21, 2007.

Docket Numbers: ER07-805-000.

Applicants: California Independent System Operator Corporation.

Description: California Independent System Operator Corp submits an amendment to the ISO Tariff re April 2007 NERC/WECC Charge Invoicing Amendment.

Filed Date: 4/27/2007.

Accession Number: 20070501-0314.

Comment Date: 5 p.m. Eastern Time on Friday, May 18, 2007.

Docket Numbers: ER07-807-000.

Applicants: Deseret Generation & Transmission Co-operative, Inc.

Description: Deseret Generation & Transmission Co-operative, Inc submits its annual Informational Filing setting forth updated approved costs for member-owned generation resources for 2007.

Filed Date: 4/27/2007.

Accession Number: 20070501-0315.

Comment Date: 5 p.m. Eastern Time on Friday, May 18, 2007.

Docket Numbers: ER07-808-000.

Applicants: Epic Merchant Energy CA, LLC.

Description: EPIC Merchant Energy CA, LLC submits a petition for acceptance of initial tariff, waiver and blanket authority.

Filed Date: 4/27/2007.

Accession Number: 20070501-0313.

Comment Date: 5 p.m. Eastern Time on Friday, May 18, 2007.

Docket Numbers: ER07-820-000.

Applicants: American Electric Power Service Corporation.

Description: American Electric Power Service Corporation agent for AEP Texas Central Company submits a restated and amended interconnection agreement with Central Power and Light Company.

Filed Date: 5/1/2007.

Accession Number: 20070503-0156.

Comment Date: 5 p.m. Eastern Time on Tuesday, May 22, 2007.

Docket Numbers: ER07-821-000.

Applicants: American Electric Power Service Corporation.

Description: The American Electric Power Service Corporation agent for the AEP Operating Companies submits a new Interconnection and Local Delivery Service Agreement with the City of Westerville Ohio.

Filed Date: 5/1/2007

Accession Number: 20070503-0157.

Comment Date: 5 p.m. Eastern Time on Tuesday, May 22, 2007.

Docket Numbers: ER07-822-000.

Applicants: New England Power Pool Participants Committee.

Description: New England Power Pool Participants Committee submits the signature pages of the New England Power Pool Agreement dated 9/1/71, as amended and executed by Horizon Power and Light LLC et al.

Filed Date: 5/1/2007.

Accession Number: 20070503-0155.

Comment Date: 5 p.m. Eastern Time on Tuesday, May 22, 2007.

Docket Numbers: ER07-823-000.

Applicants: Commonwealth Edison Company.

Description: Commonwealth Edison Company submits Notices of Cancellation of FERC Electric Tariff Rates 26, 27, and 28, rate schedules.

Filed Date: 5/1/2007.

Accession Number: 20070503-0154.

Comment Date: 5 p.m. Eastern Time on Tuesday, May 22, 2007.

Docket Numbers: ER07-824-000.

Applicants: Tampa Electric Company.

Description: Tampa Electric Company submits its Sixth Revised Sheet 70 and 71 to its First Revised Rate Schedule 62, to become effective 5/1/07.

Filed Date: 4/30/2007.

Accession Number: 20070503-0153.

Comment Date: 5 p.m. Eastern Time on Monday, May 21, 2007.

Docket Numbers: ER07-825-000.

Applicants: California Power Exchange Corporation.

Description: The California Power Exchange Corporation submits proposed amendments to its Rate Schedule 1 in order to recover projected expenses for the period 7/1/07 through 12/31/07.

Filed Date: 5/1/2007.

Accession Number: 20070503-0152.

Comment Date: 5 p.m. Eastern Time on Tuesday, May 22, 2007.

Docket Numbers: ER07-826-000.

Applicants: Northwestern Wisconsin Electric Company.

Description: Northwestern Wisconsin Electric Co submits a proposed rate change, Sixth Revised Rate Schedule FERC 2, to be effective 5/1/07.

Filed Date: 5/1/2007.

Accession Number: 20070503-0170.

Comment Date: 5 p.m. Eastern Time on Tuesday, May 22, 2007.

Docket Numbers: ER07-827-000.

Applicants: Montana Generation, LLC.

Description: Montana Generation, LLC submits a power purchase agreement to sell power to NorthWestern Corporation.

Filed Date: 5/1/2007

Accession Number: 20070503-0173.

Comment Date: 5 p.m. Eastern Time on Tuesday, May 22, 2007.

Docket Numbers: ER07-828-000.

Applicants: Southwest Power Pool, Inc.

Description: Southwest Power Pool, Inc submits an executed service agreement for Network Integration Transmission Service with Public Service Co of Oklahoma et al.

Filed Date: 5/1/2007.

Accession Number: 20070503-0172.

Comment Date: 5 p.m. Eastern Time on Tuesday, May 22, 2007.

Docket Numbers: ER07-829-000.

Applicants: MidAmerican Energy Company.

Description: MidAmerican Energy Company submits a Confirmation Letter dated 4/27/07 with Montezuma Municipal Light and Power Plant.

Filed Date: 5/2/2007.

Accession Number: 20070503-0151.

Comment Date: 5 p.m. Eastern Time on Wednesday, May 23, 2007.

Docket Numbers: ER07-830-000.

Applicants: Southern California Edison Company.

Description: Southern California Edison Company submits Third Revised Sheet 54 et al to the Amended and Restated Eldorado System Conveyance and Co-Tenancy Agreement with Nevada Power Co et al.

Filed Date: 5/1/2007.

Accession Number: 20070503-0150.

Comment Date: 5 p.m. Eastern Time on Tuesday, May 22, 2007.

Docket Numbers: ER07-831-000.

Applicants: MidAmerican Energy Company.

Description: MidAmerican Energy Company submits First Revised Sheet 14, 19, 24, 25 and Original Sheet 19A and 25a to First Revised Rate Schedule 82 with Northwest Iowa Power Cooperative dated 4/27/07 under ER07-831.

Filed Date: 5/1/2007.

Accession Number: 20070503-0149.

Comment Date: 5 p.m. Eastern Time on Tuesday, May 22, 2007.

Docket Numbers: ER07-832-000.

Applicants: MidAmerican Energy Company.

Description: MidAmerican Energy Company submits a Network Integration Transmission Service Agreement and Network Operating Agreement with Central Iowa Power Cooperative dated 4/27/07 etc.

Filed Date: 5/1/2007.

Accession Number: 20070503-0148.

Comment Date: 5 p.m. Eastern Time on Tuesday, May 22, 2007.

Docket Numbers: ER07-833-000.

Applicants: Wisconsin Electric Power Company.

Description: Wisconsin Electric Power Co submits its Amendment 3 to the Joint Operation Agreement with Edison Sault Electric Co.

Filed Date: 5/2/2007.

Accession Number: 20070504-0227.

Comment Date: 5 p.m. Eastern Time on Wednesday, May 23, 2007.

Docket Numbers: ER07-834-000.

Applicants: New York Independent System Operator, Inc.

Description: New York Independent System Operator, Inc submits a revision to the liability limitation provisions contained in its OATT and Market Administration and Control Area Services Tariff.

Filed Date: 5/1/2007.

Accession Number: 20070503-0232.

Comment Date: 5 p.m. Eastern Time on Tuesday, May 22, 2007.

Docket Numbers: ER07-836-000.

Applicants: Long Beach Generation LLC.

Description: Long Beach Generation, LLC submits a Power Purchase Tolling Agreement with Southern California Edison Co dated 11/10/06.

Filed Date: 5/3/2007.

Accession Number: 20070504-0253.

Comment Date: 5 p.m. Eastern Time on Thursday, May 24, 2007.

Docket Numbers: ER07-837-000.

Applicants: Southern Company Services, Inc.

Description: Southern Company Services, Inc agent for Alabama Power Company et al submits an informational filing under its Open Access Transmission Tariff, Fourth revised Volume 5.

Filed Date: 5/1/2007.

Accession Number: 20070504-0252.

Comment Date: 5 p.m. Eastern Time on Tuesday, May 22, 2007.

Take notice that the Commission received the following public utility holding company filings:

Docket Numbers: PH07-12-000.

Applicants: Carlyle/Riverstone Global Energy and Power Fund II, L.P.

Description: FERC Form 65 B—Waiver Notification of Carlyle/Riverstone Global Energy and Power Fund II, L.P.

Filed Date: 5/1/2007.

Accession Number: 20070501-5077.

Comment Date: 5 p.m. Eastern Time on Tuesday, May 22, 2007.

Docket Numbers: PH07-13-000.

Applicants: SEMGROUP, L.P.; SEMSTREAM, L.P.

Description: FERC Form 65 B—Waiver Notification of SemGroup, L.P., and SemStream, L.P. as a Single State Holding Company System.

Filed Date: 5/2/2007.

Accession Number: 20070502-5013.

Comment Date: 5 p.m. Eastern Time on Wednesday, May 23, 2007.

Docket Numbers: PH07-14-000.

Applicants: Ritchie Capital Management, L.L.C.

Description: FERC Form 65 B Waiver Notification of Ritchie Capital Management.

Filed Date: 5/2/2007.

Accession Number: 20070502-5023.

Comment Date: 5 p.m. Eastern Time on Wednesday, May 23, 2007.

Docket Numbers: PH07-15-000.

Applicants: Ritchie Capital Management, L.L.C.

Description: FERC Form 65 A Exemption Notification of Ritchie Capital Management.

Filed Date: 5/2/2007.

Accession Number: 20070502-5022.

Comment Date: 5 p.m. Eastern Time on Wednesday, May 23, 2007.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-9193 Filed 5-11-07; 8:45 am]

BILLING CODE 6717-01-P